DEPARTMENT OF EDUCATION

[Docket No.: ED-2023-SCC-0112]

Agency Information Collection Activities; Submission to the Office of Management and Budget for Review and Approval; Comment Request; Private School Universe Survey (PSS) 2023-24 Data Collection Revision

AGENCY: National Center for Education Statistics (NCES), Department of Education (ED).

ACTION: Notice.

SUMMARY: In accordance with the Paperwork Reduction Act (PRA) of 1995, the Department is proposing a revision of a currently approved information collection request (ICR).

DATES: Interested persons are invited to submit comments on or before July 27, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Carrie Clarady, 202-245-6347.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Private School Universe Survey (PSS) 2023-24 Data Collection Revision.

OMB Control Number: 1850-0641.

Type of Review: A revision of a currently approved ICR.

Respondents/Affected Public: Individuals and Households.

Total Estimated Number of Annual Responses: 27,553.

Total Estimated Number of Annual Burden Hours: 3,897.

Abstract: The National Center for Education Statistics (NCES), within the U.S. Department of Education, conducts the Private School Universe Survey (PSS), a national survey of private elementary and secondary schools. The PSS is designed to collect biennial data on the total number of private schools, teachers, and students; and to create an NCES universe frame of private schools that serve as a sampling frame for NCES surveys. This survey is an ongoing project to improve NCES universe and sample data on private schools.

The request to conduct the 2023-24 data collection and the 2025-26 PSS list frame building operations was approved in April 2022 (1850-0641 v.14). This revision addresses changes to communication materials and modifications to the questionnaire. Changes to the communications reflect a shift towards focusing on the benefits of participating in the PSS, including a school's listing on NCES Private School Search website and having an active NCES ID. Modifications to the questionnaire include the addition of an item assessing the use of virtual learning in private schools and modifying item wording to better align item with item wording on the National Teacher and Principal Survey (NTPS), which will be in the field for a sample of private schools during the 2023-24 school year as well.

Dated: June 21, 2023.
Stephanie Valentine,
PRA Coordinator, Strategic Collections and Clearance, Governance and Strategy Division, Office of Chief Data Officer, Office of Planning, Evaluation and Policy Development.

[FR Doc. 2023-13556 Filed 6-26-23; 8:45 am]

BILLING CODE 4000-01-P